DEPARTMENT OF ENERGY

Federal Energy Regulatory Commission

[Docket No. RP01-34-002]

Overthrust Pipeline Company; Notice of Compliance Filing

January 5, 2001.

Take notice that on December 7, 2000, Overthrust Pipeline Company (Overthrust) tendered its answer to protest.

Overthrust states that the purpose of this filing is to comply with Ordering Paragraph (C) of the Commission's Order on filings to establish Imbalance Netting and Trading Pursuant to Order Nos. 587-G and 587-L issued November 9, 2000, in Docket Nos. RM96-1-014, et al., which directed Overthrust to file an answer to the joint protest of protestors in Docket No. RP01-34-000.

Overthrust states that a copy of this answer has been served upon each person designated of the official service list compiled by the Secretary in this proceeding.

Any person desiring to protest said filing should file a protest with the Federal Energy Regulatory Commission, 888 First Street, NE., Washington, DC 20426, in accordance with Section 385.211 of the Commission's Rules and Regulations. All such protests must be filed by January 12, 2001. Protests will be considered by the Commission in determining the appropriate action to be taken, but will not serve to make protestants parties to the proceedings. Copies of this filing are on file with the Commission and are available for public inspection in the Public Reference Room. This filing may be viewed on the web at ­ http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-848 Filed 1-10-01; 8:45 am]

BILLING CODE 6717-01-M